OFFICE OF THE UNITED STATES TRADE REPRESENTATIVE

Anti-Counterfeiting Trade Agreement (ACTA): Request for Public Comments

AGENCY: Office of the United States Trade Representative.

ACTION: Request for written submissions from the public.

SUMMARY: The Office of the United States Trade Representative (USTR) seeks to negotiate an anti-counterfeiting trade agreement to strengthen international cooperation, enforcement practices, and participants' legal frameworks to address counterfeiting and piracy. USTR requests written comments from the public concerning specific matters that should be the focus of such an agreement.

DATES: Submissions must be received on or before 5 p.m. on Friday, March 21, 2008.

ADDRESS: All comments should be sent (i) electronically, to the following e-mail address: ACTA@ustr.eop.gov, with “Anti-Counterfeiting Trade Agreement (ACTA): Request for Public Comments” in the subject line, or (ii) by fax, to Rachel Bae, at (202) 395-3891, with a confirmation copy sent electronically to the e-mail address above.

FOR FURTHER INFORMATION CONTACT: Rachel S. Bae, Director for Intellectual Property and Innovation, Office of the United States Trade Representative, at (202) 395-4510.

SUPPLEMENTARY INFORMATION: On October 23, 2008, USTR announced that the United States, along with a group of trading partners, would pursue negotiation of a new Anti-Counterfeiting Trade Agreement (ACTA) to provide international leadership in the fight against IPR counterfeiting and piracy. The United States and other interested parties intend to seek an agreement with provisions in three main areas: international cooperation, enforcement practices, and the legal framework for IPR enforcement.

A principal goal of the ACTA would be to establish, among governments committed to strong IPR protection, a common standard for IPR enforcement to combat global infringements of IPR particularly in the context of counterfeiting and piracy that addresses today's challenges, in terms of increasing international cooperation, strengthening the framework of practices that contribute to effective enforcement of IPRs, and strengthening relevant IPR enforcement measures themselves. A fact sheet providing further details on the ACTA can be found on the USTR Web site at: http://www.ustr.gov/assets/Document_Library/Reports_Publications/2007/asset_upload_file122_13414.pdf.

Requirements for Comments: Comments should address specific matters that should be covered by the ACTA in the areas of (a) international cooperation; (b) enforcement practices; and (c) legal framework. Comments should be as detailed as possible.

Comments must be in English. No submissions will be accepted via postal service mail. Documents should be submitted as either WordPerfect, MS Word, Adobe, or text (.TXT) files. Supporting documentation submitted as spreadsheets is acceptable as Quattro Pro or Excel files. A submitter requesting that information contained in a comment be treated as confidential business information must certify that such information is business confidential and would not customarily be released to the public by the submitter. A non-confidential version of the comment must also be provided. For any document containing business confidential information, the file name of the business confidential version should begin with the characters “BC-”, and the file name of the public version should begin with the character “P-”. The “P-” or “BC-” should be followed by the name of the submitter. Submissions should not include separate cover letters; information that might appear in a cover letter should be included in the submission itself. To the extent possible, any attachments to the submission should be included in the same file as the submission itself, and not as separate files.

All comments should be sent (i) electronically, to the following e-mail address: ACTA@ustr.eop.gov, with “Anti-Counterfeiting Trade Agreement (ACTA): Request for Comments” in the subject line, or (ii) by fax, to Rachel Bae, at (202) 395-9458, with a confirmation copy sent electronically to the e-mail address above.

Public Inspection of Submissions: Within one business day of receipt, non-confidential submissions will be placed in a public file, open for inspection at the USTR reading room, Office of the United States Trade Representative, Annex Building, 1724 F Street, NW., Room 1, Washington, DC. An appointment to review the file must be scheduled at least 48 hours in advance and may be made by calling Jacqueline Caldwell at (202) 395-6186. The USTR reading room is open to the public from 10 a.m. to 12 noon and from 1 p.m. to 4 p.m., Monday through Friday.

Stanford K. McCoy,
Acting Assistant USTR for Intellectual Property and Innovation.

[FR Doc. E8-2944 Filed 2-14-08; 8:45 am]

BILLING CODE 3190-W8-P